DEPARTMENT OF THE INTERIOR

National Park Service

Notice of Inventory Completion: Wisconsin Historical Society, Museum Division, Madison, WI

AGENCY: National Park Service, Interior.

ACTION: Notice.

Notice is here given in accordance with the Native American Graves Protection and Repatriation Act (NAGPRA), 25 U.S.C. 3003, of the completion of an inventory of human remains and associated funerary objects in the possession of the Wisconsin Historical Society, Museum Division (aka State Historical Society of Wisconsin), Madison, WI. The human remains and associated funerary objects were removed from Fond du Lac County, WI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

An assessment of the human remains was made by the Wisconsin Historical Society professional staff in consultation with representatives of the Ho-Chunk Nation of Wisconsin and the Winnebago Tribe of Nebraska.

In 1926, human remains were removed from a grave near Luco Creek (47-FD-0242), Fond du Lac, Fond du Lac County, WI, during sewer construction. Workers encountered three skeletons with associated funerary objects. On September 23, 1926, one cranium and some of the associated funerary objects were brought to the Wisconsin Historical Society. A small glazed ceramic perfume bottle was sent to the Milwaukee Public Museum at about the same time. The workers retained custody of a pipe, beads, and two silver crosses, but discarded the other skeletal material at the time of discovery, (see Wisconsin Historical Society accession file 1926.84 and the Archaeological Sites Inventory). No known individual was identified. The two associated funerary objects are one trade sheet silver headdress and a fragment of woven cloth.

Trade silver first appeared in the United States circa A.D. 1760. What is referred to as German trade silver (an alloy of copper, zinc, and nickel) was not introduced until A.D. 1830. The sheet silver headdress has been identified as German trade silver, thereby dating the burial to post A.D. 1830. Based on cranial morphology, the human remains are determined to represent an adult male of mixed Native American and Caucasian ethnicity. Oral history and historical records, indicate the Luco Creek site is located across the creek from an historic Winnebago village, which was located at Taycheedah, (1857, Augustin Grignon, Wisconsin Historical Collections 3: 264, 288). This places the site within the historic territory of the Ho-Chunk Nation of Wisconsin and Winnebago Tribe of Nebraska. Furthermore, the dates of occupation of the site are consistent with the time-period in which the Ho-Chunk Nation of Wisconsin and the Winnebago Tribe of Nebraska inhabited the area.

Officials of the Wisconsin Historical Society have determined that, pursuant to 25 U.S.C. 3001(9), the human remains described above represent the physical remains of one individual of Native American ancestry. Officials of the Wisconsin Historical Society also have determined that, pursuant to 25 U.S.C. 3001(3)(A), the two objects described above are reasonably believed to have been placed with or near the human remains at the time of death or later during the death rite or ceremony. Lastly, officials of the Wisconsin Historical Society have determined that, pursuant to 25 U.S.C. 3001(2), there is a relationship of shared group identity that can be reasonably traced between the Native American human remains and associated funerary objects and the Ho-Chunk Nation of Wisconsin and the Winnebago Tribe of Nebraska.

Representatives of any other Indian tribe that believes itself to be culturally affiliated with the human remains and/or associated funerary objects should contact Jennifer L. Kolb at the Wisconsin Historical Museum, 30 N. Carroll St., Madison, WI 53703, telephone (608) 261-2461, before June 14, 2010. Repatriation of the human remains and associated funerary objects to the Ho-Chunk Nation of Wisconsin and the Winnebago Tribe of Nebraska may proceed after that date if no additional claimants come forward.

The Wisconsin Historical Society is responsible for notifying the Ho-Chunk Nation of Wisconsin and the Winnebago Tribe of Nebraska that this notice has been published.

Dated: April 28, 2010
Sherry Hutt,
Manager, National NAGPRA Program.

[FR Doc. 2010-11347 Filed 5-12-10; 8:45 am]

BILLING CODE 4312-50-S